DEPARTMENT OF THE INTERIOR

Office of the Secretary

Notice of Proposed Renewal of Information Collection: OMB Control Number 1093-0005, Payments in Lieu of Taxes

AGENCY: Office of Budget, Interior.

ACTION: Notice and request for comments.

SUMMARY: In compliance with section 3506(c)(2)(A) of the Paperwork Reduction Act of 1995, the Office of Budget, Office of the Secretary, Department of the Interior (DOI), announces that it has submitted a request for proposed extension of an information collection to the Office of Management and Budget and requests public comments on this submission.

DATES: OMB has up to 60 days to approve or disapprove the information collection request, but may respond after 30 days; therefore, public comments should be submitted to OMB by October 26, 2009, in order to be assured of consideration.

FOR FURTHER INFORMATION CONTACT: Send your written comments by facsimile to (202) 395-5806 or e-mail (OIRA_DOCKET@omb.eop.gov) to the Office of Information and Regulatory Affairs, Office of Management and Budget, Attention: Department of the Interior Desk Officer (1093-0005). Also, please send a copy of your comments to U.S. Department of the Interior, Office of the Secretary, Office of Budget, Attn. Brian Yost, 1849 C St., NW., MS 4119 MIB, Washington, DC 20240, or fax to (202) 208-3911, or via e-mail to Brian_Yost@ios.doi.gov. Individuals providing comments should reference OMB control number 1093-0005, “Payment in Lieu of Taxes (PILT Act), Statement of Federal Land Payments (43 CFR 44).”

FOR FURTHER INFORMATION CONTACT: Requests for additional information on this information collection should be directed to Brian Yost at U.S. Department of the Interior, Office of the Secretary, Office of Budget, 1849 C St., NW., MS 4119 MIB, Washington, DC 20240. You may also fax requests for further information to (202) 208-3911, or e-mail him at Brian_Yost@ios.doi.gov.

SUPPLEMENTARY INFORMATION:

I. Abstract

Office of Management and Budget (OMB) regulations at 5 CFR part 1320, which implement the Paperwork Reduction Act of 1995 (Pub. L. 104-13), require that interested members of the public and affected parties have an opportunity to comment on information collection and recordkeeping activities (see 5 CFR 1320.8(d). This notice identifies an information collection activity that the Office of the Secretary, Office of Budget has submitted to OMB for renewal.

Public Law 97-258 (31 U.S.C. 6901-6907), as amended, the Payments in Lieu of Taxes (PILT) Act, was designed by Congress to help local governments recover some of the expenses they incur in providing services on public lands. These local governments receive funds under various Federal land payment programs such as the National Forest Revenue Act, the Mineral Lands Leasing Act, and the Taylor Grazing Act. PILT payments supplement the payments that local governments receive under theses other programs.

The PILT Act requires that the Governor of each State furnish the Department of the Interior with a listing of payments disbursed to local governments by the States on behalf of the Federal Government under 12 statutes described in Section 4 of the Act (31 U.S.C. 6903). The Department of the Interior uses the amounts reported by the States to reduce PILT payments to units of general local governments from that which they might otherwise receive. If such listings were not furnished by the Governor of each affected State, the Department would not be able to compute the PILT payments to units of general local government within the States in question.

In fiscal year 2004, administrative authority for the PILT program was transferred from the Bureau of Land Management to the Office of the Secretary of the Department of the Interior. Applicable DOI regulations pertaining to the PILT program to be administered by the Office of the Secretary were published as a final rule in the Federal Register on December 7, 2004. The OMB granted a three-year extension to the information collection by the Office of the Secretary, Office of Budget on December 21, 2006. This Office is now planning to extend the information collection approval authority in order to enable the Department of the Interior to continue to comply with the PILT Act.

II. Data

(1) Title: Payments in Lieu of Taxes (PILT Act), Statement of Federal Land Payments (43 CFR 44).

OMB Control Number: 1093-0005.

Current Expiration Data: December 31, 2009.

Type of Review: Information Collection Renewal.

Affected Entities: State, Local and Tribal Government.

Estimated annual number of respondents: 43.

Frequent of response: Annual.

(2) Annual reporting and record keeping burden:

Average annual reporting burden per respondent: 75 hours

Total annual reporting: 3,225 hours.

(3) Description of the need and use of the information: The statutorily-required information is needed to compute payments due units of general local government under the PILT Act (31 U.S.C. 6901-6907). The Act requires that the Governor of each State furnish a statement as to amounts paid to units of general local government under 12 revenue-sharing statutes in the prior fiscal year.

(4) As required under 5 CFR 1320.8(d), a Federal Register notice soliciting comments on the information collection was published on June 17, 2009 (74 FR 28717). No comments were received. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

“Burden” means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments, with names and addresses, will be available for public inspection in the Main Interior Building, 1849 C Street, NW., Washington, DC during normal business hours, excluding legal holidays. If you wish us to withhold your personal information, you must prominently state at the beginning of your comment what personal information you want us to withhold. We will honor your request to the extent allowable by law. For an appointment to inspect comments, please contact Brian Yost by telephone on (202) 208-7409, or by e-mail at Brian_Yost@ios.doi.gov. A valid picture identification is required for entry into the Department of the Interior.

An agency may not conduct or sponsor, and a person is not required to respond to, a collection of information unless it displays a currently valid Office of Management and Budget control number.

Dated: September 18, 2009.
Pam Haze,
Deputy Assistant Secretary, Budget and Business Management.

[FR Doc. E9-23117 Filed 9-24-09; 8:45 am]

BILLING CODE 4310-RK-P